GENERAL SERVICES ADMINISTRATION

[Notice-ID-2023-11; Docket No. 2023-0002; Sequence No. 32]

Privacy Act of 1974; Rescindment of a System of Records

AGENCY: Office of the Chief Privacy Officer, General Services Administration, (GSA).

ACTION: Rescindment of a system of records notice.

SUMMARY: Pursuant to the Privacy Act of 1974 and Office of Management and Budget (OMB) Circular No. A-108, notice is hereby given that the General Services Administration (GSA) proposes to rescind the GSA/OAP-4 FedBizOps System of Records Notice (SORN). The rescinded system of records described in this notice no longer maintains any Personally Identifiable Information (PII).

DATES: Effective immediately.

ADDRESSES: Submit comments identified by “Notice-ID-2023-11, Rescindment of a System of Records” via http://www.regulations.gov. Search for “Notice-ID-2023-11, Rescindment of a System of Records.” Select the link “Comment Now” that corresponds with “Notice-ID-2023-11, Rescindment of a System of Records.” Follow the instructions provided on the screen. Please include your name, company name (if any), and “Notice-ID-2023-11, Rescindment of a System of Records” on your attached document.

FOR FURTHER INFORMATION CONTACT: Call or email the GSA Chief Privacy Officer, Richard Speidel: telephone 202-969-5830; email gsa.privacyact@gsa.gov.

SUPPLEMENTARY INFORMATION: The information in the GSA/OAP-4 FedBizOps SORN is now obsolete as all relevant records are now maintained in a different system, GSA's SAM.gov. It should be removed from GSA's inventory once OMB approves via ROCIS (OMB OIRA—Office of Information and Regulatory Affairs).

SYSTEM NAME AND NUMBER:

GSA/OAP—4FedBizOps.

HISTORY:

73 FR 22386 on 04/24/2008.

Richard Speidel,
Chief Privacy Officer, Office of the Deputy Chief Information Officer, General Services Administration.

[FR Doc. 2023-20048 Filed 9-14-23; 8:45 am]

BILLING CODE 6820-34-P